DEPARTMENT OF DEFENSE

Department of the Navy

Notice of Intent To Prepare an Environmental Impact Statement for the Disposal and Reuse of Naval Air Station (NAS) Brunswick, ME, and Notice of Public Scoping Meetings

AGENCY: Department of the Navy, DoD.

ACTION: Notice.

SUMMARY: Pursuant to Section 102(2)(c) of the National Environmental Policy Act (NEPA) of 1969, as implemented by the Council on Environmental Quality regulations (40 CFR Parts 1500-1508), the Department of the Navy (DON) announces its intent to prepare an Environmental Impact Statement (EIS) to evaluate the potential environmental consequences of the disposal and reuse of NAS Brunswick, Maine, per Public Law 101-510, the Defense Base Closure and Realignment Act of 1990, as amended in 2005 (BRAC Law). Potential impacts associated with reuse of NAS Brunswick, including changes in aviation, housing, school system, traffic patterns, and environmental remediation will be evaluated and will contribute to the alternatives considered.

DATES: The DON will conduct public scoping meetings in Brunswick, Cumberland County, Maine, to receive comments on the environmental concerns that should be addressed in the EIS. Public scoping open houses will be as follows:

1. Open House: Wednesday, November 12, 2008, 4 p.m.-8 p.m., Brunswick Junior High School, Gymnasium, 65 Columbia Avenue, Brunswick, Maine.

2. Open House: Thursday, November 13, 2008, 10 a.m.-2 p.m., Brunswick Municipal Meeting Facility (Old High School), 44 McKeen Street, Brunswick, Maine.

FOR FURTHER INFORMATION CONTACT: Director, BRAC Program Management Office Northeast, 4911 Broad Street, Building 679, Philadelphia, PA 19112-1303, telephone: 215-897-4900, fax: 215-897-4902, e-mail: david.drozd@navy.mil.

SUPPLEMENTARY INFORMATION: The Base Closure and Realignment (BRAC) Commission was established by Public Law 101-510, the BRAC Law, to recommend military installations for realignment and closure. Recommendations of the 2005 BRAC Commission were included in a report presented to the President on September 8, 2005. The President approved and forwarded this report to Congress on September 16, 2005, which became effective as public law on November 9, 2005, and must be implemented in accordance with the requirements of the BRAC Law.

The BRAC Law exempts the decision-making process of the Commission from the provisions of NEPA. The Law also relieves the DoD from the NEPA requirements to consider the need for closing, realigning, or transferring functions, and from looking at alternative installations to close or realign. The DON is preparing environmental impact analyses during the process of relocating functions from military installations being closed or realigned to other military installations after the receiving installations have been selected, but before the functions are relocated. The analyses will consider direct and indirect environmental and socioeconomic impacts of these actions and cumulative impacts of other reasonably foreseeable actions affecting the receiving installations.

The BRAC recommendation for closure of NAS Brunswick is as follows: Close NAS Brunswick, Maine; relocate its aircraft along with dedicated personnel, equipment, and support to NAS Jacksonville, Florida; and consolidate the Aircraft Intermediate Maintenance Department with the Fleet Readiness Center Southeast, Jacksonville, Florida.

NAS Brunswick is a 3,162-acre air installation located in Brunswick, Maine. Outlying facilities that are part of the BRAC recommendation include the Topsham Annex, McKeen Street Housing Annex, East Brunswick Radio Transmitter Site, and the Sabino Hill and Small Point Rake Stations. A separate redevelopment plan has been prepared for the Topsham Annex and by separate action, an Environmental Assessment (EA) will be prepared to address probable impacts of the proposed reuse. Sabino Hill will revert to the previous landowner. As such, these facilities will not be evaluated in this EIS.

The proposed action for this EIS is to provide for the disposal of NAS Brunswick and its excess properties by the Navy and its reuse by the Midcoast Regional Redevelopment Authority (MRRA) in a manner consistent with the Brunswick Naval Air Station Reuse Master Plan (Reuse Plan) prepared by the Brunswick Local Redevelopment Authority (BLRA). The plan will be implemented by MRRA.

The EIS will consider the alternatives that are reasonable to accomplish the proposed action. Alternatives to be considered include: (1) Disposal of the property by the Navy and reuse by MRRA in a manner consistent with the Brunswick Naval Air Station Master Reuse Plan; (2) disposal of the property by the Navy and reuse by MRRA in accordance with a high-density reuse scenario; and (3) no action, with the Navy closing NAS Brunswick and placing it in caretaker status.

Alternative 1 includes the disposal of NAS Brunswick and its excess properties by the Navy and its reuse in a manner consistent with the Reuse Plan. The Plan provides a mix of land uses based on existing conditions on the installation and in the community, guiding principles for development established by the LRA, and public participation. This alternative would maintain the existing airfield for private aviation purposes. It is anticipated that full build-out of the Plan would be implemented over a 20-year period. The Reuse Plan calls for the development of approximately 1,630 acres (51%) of the total base property.

In addition, approximately 1,570 acres (49%) of the base would be dedicated to a variety of active and passive land uses, including recreation, open space, and natural areas. The plan reuses the existing airfield and its supporting infrastructure, provides a mix of land use types and densities, and preserves open space and natural areas. The plan also incorporates elements based on smart-growth principles, including pedestrian-friendly transportation features (e.g., walkable neighborhoods, bike lanes, and compact development), open spaces, and a mix of land use types.

Alternative 2 includes the disposal of NAS Brunswick and its excess properties by the Navy and its reuse in a manner that features a higher density of residential and community mixed-use development and does not include reuse of the airfield. Similar to Alternative 1, this alternative includes a mix of land use types, preserves open space and natural areas, and incorporates elements based on smart-growth principles, including pedestrian-friendly transportation and compact development. It is anticipated that full build-out of the high-density scenario would be implemented over a 20-year period.

The Reuse Plan calls for the development of approximately 1,580 acres (49%) of the total base property. In addition, approximately 1,620 acres (51%) of the base would be dedicated to a variety of active and passive land uses, including recreation, open space, and natural areas. Although this alternative would have less developable acres than the preferred alternative, the density of residential and community mixed-uses would be higher.

Alternative 3 is required by NEPA and will evaluate the impacts at NAS Brunswick in the event that the property is not disposed. Under this alternative, existing mission and support operations would be relocated; however, the installation would be retained by the U.S. government in caretaker status. No reuse or redevelopment would occur at the facility. The installation would be placed in caretaker status.

The EIS will address potential direct, indirect, short-term, long-term, and cumulative impacts on the human and natural environments, including potential impacts on topography, geology and soils, water resources, biological resources, air quality, noise, infrastructure and utilities, traffic, cultural resource, land use, socioeconomics, environmental justice, and waste management. Known areas of concern associated with the BRAC action include impacts on socioeconomics due to loss of the military and civilian workforce, impacts on local housing market and school system, impacts on local traffic patterns resulting from reuse scenarios, and the clean-up of installation remediation sites.

The DON is initiating the scoping process to identify community concerns and issues that should be addressed in the EIS. Agencies and the public are encouraged to provide written comments at scheduled public scoping meetings. Comments should clearly describe specific issues or topics that the EIS should address. Written comments must be postmarked or e-mailed by midnight November 28, 2008, and should be sent to: Director, BRAC Program Management Office Northeast, 4911 Broad Street, Building 679, Philadelphia, PA 19112-1303, telephone: 215-897-4900, fax: 215-897-4902, e-mail: david.drozd@navy.mil.

Requests for special assistance, sign language interpretation for the hearing impaired, language interpreters, or other auxiliary aids for scheduled public scoping meeting must be sent by mail or e-mail to Mr. Ron Bochenek, Ecology and Environment, Inc., 368 Pleasant View Drive, Lancaster, NY 14086, telephone: 716-684-8060, e-mail: rbochenek@ene.com.

Dated: October 20, 2008.
T.M. Cruz,
Lieutenant Commander, Judge Advocate General's Corps, U.S. Navy, Federal Register Liaison Officer.

[FR Doc. E8-25424 Filed 10-23-08; 8:45 am]

BILLING CODE 3810-FF-P